Executive Order 14287 of April 28, 2025

Protecting American Communities From Criminal Aliens

By the authority vested in me as President by the Constitution and the laws of the United States of America, it is hereby ordered:

Section 1. Purpose and Policy. Federal supremacy with respect to immigration, national security, and foreign policy is axiomatic. The Constitution provides the Federal Government with plenary authority regarding immigration to protect the sovereignty of our Nation and to conduct relations with other nations, who must be able to deal with one national Government on such matters. This power is sometimes contained in specific constitutional provisions: Article II of the Constitution vests the power to protect national security and conduct foreign policy in the President of the United States, and Article IV, Section 4, requires the Federal Government to “protect each of [the States] against Invasion.” This Federal power over immigration is also an inherent element of national sovereignty.

The prior administration allowed unchecked millions of aliens to illegally enter the United States. The resulting public safety and national security risks are exacerbated by the presence of, and control of territory by, international cartels and other transnational criminal organizations along the southern border, as well as terrorists and other malign actors who intend to harm the United States and the American people. This invasion at the southern border requires the Federal Government to take measures to fulfill its obligation to the States.

Yet some State and local officials nevertheless continue to use their authority to violate, obstruct, and defy the enforcement of Federal immigration laws. This is a lawless insurrection against the supremacy of Federal law and the Federal Government's obligation to defend the territorial sovereignty of the United States. Beyond the intolerable national security risks, such nullification efforts often violate Federal criminal laws, including those prohibiting obstruction of justice (18 U.S.C. 1501 et seq.), unlawfully harboring or hiring illegal aliens (8 U.S.C. 1324), conspiracy against the United States (18 U.S.C. 371), and conspiracy to impede Federal law enforcement (18 U.S.C. 372). Assisting aliens in violating Federal immigration law could also violate the Racketeer Influenced and Corrupt Organizations Act (18 U.S.C. 1961 et seq.). Some measures to assist illegal aliens also necessarily violate Federal laws prohibiting discrimination against Americans in favor of illegal aliens and protecting Americans' civil rights.

It is imperative that the Federal Government restore the enforcement of United States law.

Sec. 2. Designation of “Sanctuary” Jurisdictions. (a) Within 30 days of the date of this order, the Attorney General, in coordination with the Secretary of Homeland Security, shall publish a list of States and local jurisdictions that obstruct the enforcement of Federal immigration laws (sanctuary jurisdictions). After this initial publication, the Attorney General and the Secretary of Homeland Security shall update this list as necessary.

(b) Immediately following each publication under subsection (a) of this section, the Attorney General and the Secretary of Homeland Security shall notify each sanctuary jurisdiction regarding its defiance of Federal immigration law enforcement and any potential violations of Federal criminal law.

Sec. 3. Consequences for Sanctuary Jurisdiction Status. (a) With respect to sanctuary jurisdictions that are designated under section 2(a) of this order, the head of each executive department or agency (agency), in coordination with the Director of the Office of Management and Budget and as permitted by law, shall identify appropriate Federal funds to sanctuary jurisdictions, including grants and contracts, for suspension or termination, as appropriate.

(b) With respect to jurisdictions that remain sanctuary jurisdictions after State or local officials are provided notice of such status under section 2(b) of this order and yet remain in defiance of Federal law, the Attorney General and the Secretary of Homeland Security shall pursue all necessary legal remedies and enforcement measures to end these violations and bring such jurisdictions into compliance with the laws of the United States.

Sec. 4. Preventing Federal Benefits for Aliens in Sanctuary Jurisdictions. The Secretary of Homeland Security, in coordination with the Attorney General, shall develop guidance, rules, or other appropriate mechanisms to ensure appropriate eligibility verification is conducted for individuals receiving Federal public benefits within the meaning of 8 U.S.C. 1611(c) from private entities in a sanctuary jurisdiction, whether such verification is conducted by the private entity or by a governmental entity on its behalf.

Sec. 5. Equal Treatment of Americans. The Attorney General, in consultation with the Secretary of Homeland Security and appropriate agency heads, shall identify and take appropriate action to stop the enforcement of State and local laws, regulations, policies, and practices favoring aliens over any groups of American citizens that are unlawful, preempted by Federal law, or otherwise unenforceable, including State laws that provide in-State higher education tuition to aliens but not to out-of-State American citizens that may violate 8 U.S.C. 1623 or that favor aliens in criminal charges or sentencing.

Sec. 6. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

(d) The Department of Justice shall provide funding for this order's publication in the Federal Register.

THE WHITE HOUSE,

April 28, 2025.

[FR Doc. 2025-07789

Filed 5-1-25; 8:45 am]

Billing code 4410-CW-P